DEPARTMENT OF HEALTH AND HUMAN SERVICES

National Institutes of Health

National Heart, Lung, and Blood Institute; Amended Notice of Meeting

Notice is hereby given of a change in the meeting of the National Heart, Lung, and Blood Institute Special Emphasis Panel, February 20, 2007, 2 p.m. to February 20, 2007, 3 p.m., National Institutes of Health, 6701 Rockledge Drive, Bethesda, MD 20892 which was published in the Federal Register on January 12, 2007, FR 07-100.

The February 20, 2007 Meeting Panel Name was changed from VAD Technologies to Modified Hemoglobin Production. The meeting is closed to the public.

Dated: January 24, 2007.
Anna Snouffer,
Acting Director, Office of Federal Advisory Committee Policy.

[FR Doc. 07-398 Filed 1-30-07; 8:45 am]

BILLING CODE 4140-01-M